DEPARTMENT OF THE INTERIOR

Bureau of Land Management

[MT-019-1610-DO-065E]

Montana State Office; Notice of Intent To Prepare Two Resource Management Plans and Associated Environmental Impact Statement for the Billings Field Office and Pompeys Pillar National Monument, Located in South Central Montana

AGENCY: Bureau of Land Management, Interior.

ACTION: Notice of Intent.

SUMMARY: Pursuant to the Federal Land Policy and Management Act of 1976 (FLPMA) and the National Environmental Policy Act of 1969 (NEPA), the Bureau of Land Management (BLM) Billings Field Office intends to prepare two Resource Management Plans (RMPs) with a single Environmental Impact Statement (EIS) for lands and resources managed by the Billings Field Office and for Pompeys Pillar National Monument (PPNM). Through this notice, public scoping is also being announced. The RMPs will replace the existing Billings Resource Area RMP, dated September 1984, as amended.

DATES: This notice initiates the public scoping process. Comments and resource information should be submitted to the BLM within 90 days of publication of this notice in the Federal Register. However, collaboration with the public will continue throughout the process. The BLM will announce public scoping meetings to identify relevant issues through local news media, newsletters, and the BLM Web site at http://www.blm.gov/mt/st/en/fo/billings_field_office.html at least 15 days prior to each meeting. The minutes and list of attendees for each meeting will be available to the public and open for 30 days to any participant who wishes to clarify the views they expressed. Formal opportunities for public participation will be provided upon publication of the draft RMPs/EIS.

ADDRESSES: Documents pertinent to this proposal may be examined at the Billings Field Office, 5001 Southgate Drive, Billings, MT 59101 or online at http://www.blm.gov/mt/st/en/fo/billings_field_office.html.

FOR FURTHER INFORMATION CONTACT: For further information, and/or to be added to the mailing list, contact Kim Prill, RMP Team Leader, Billings Field Office, at (406) 896-5199 or by e-mail to: Billings_PompeysPillar_RMP@blm.gov.

SUPPLEMENTARY INFORMATION: Comments may be submitted by any of the following methods:

• Web Site: http://www.blm.gov/mt/st/en/fo/billings_field_office.html

• E-mail: Billings_PompeysPillar_RMP@blm.gov

• Fax: (406) 896-5281.

• Mail: BLM Billings Field Office, Attention: Billings/PPNM RMPs, 5001 Southgate Drive, Billings, Montana 59101.

Respondents' comments, including names and street addresses, will be available for public review at the Billings Field Office during regular business hours 8 a.m.-4:30 p.m., Monday through Friday, except holidays, and may be published as part of the RMPs/EIS. Individual respondents may request confidentiality. Before including your address, phone number, e-mail address or other personal identifying information in your comment, you should be aware that your entire comment, including your personal identifying information, may be made publicly available at any time. While you can ask us in your comment to withhold your personal identifying information from public review, we cannot guarantee that we will be able to do so. If you wish to withhold your name from public review, please state so prominently at the beginning of your written comment. Formal scoping comments should be submitted within 90 days of publication of this notice in the Federal Register. All submissions from organizations and businesses, and from individuals identifying themselves as representatives of organizations or businesses, will be available for public inspection in their entirety.

The BLM intends to prepare two RMPs, with one associated EIS, for the Billings Field Office RMP and the PPNM. The RMPs/EIS will fulfill the needs and obligations set forth by the Federal Land Policy and Management Act (FLPMA), the National Environmental Policy Act (NEPA), and the BLM management policies. The land-area to be covered under the Billings RMP/EIS is located in the south-central part of Montana in Carbon, Golden Valley, Musselshell, Stillwater, Sweet Grass, Wheatland and Yellowstone Counties and portions of Big Horn County. The Billings Field Office planning area also includes administration of 6,340 acres of public land inside the Pryor Mountain Wild Horse Range in Big Horn County, Wyoming. There are approximately 427,200 acres of public lands and 906,000 acres of federal mineral estate in the planning area to be addressed in the Billings RMP. Because the BLM Land Use Planning Handbook (H-1610-1) requires that all national monuments have a stand-alone RMP/EIS level plan, the PPNM RMP will be analyzed in conjunction with the Billings RMP and incorporated as a stand-alone section. The 51 acres of public land designated as the PPNM on January 17, 2001 is located along the southern bank of the Yellowstone River, about 30 miles east of Billings, Montana. Nearby communities include the towns of Pompeys Pillar, Worden, Huntley, Shepherd, and the city of Billings in Yellowstone County.

This notice also announces the public scoping for the planning efforts. The BLM will work collaboratively with interested parties to identify the management decisions that are best suited to local, regional, tribal and national needs and concerns. The public scoping process will identify planning issues and develop planning criteria, including an evaluation of the existing RMP, in the context of the needs and interests of the public. These issues also guide the planning process. Comments on issues and planning criteria may be submitted in writing to the BLM at any public scoping meeting or by using one of the methods listed above.

Preliminary issues and management concerns have been identified by the BLM personnel, other agencies, and in meetings with individuals and user groups. This information represents the BLM's knowledge to date regarding the existing issues and concerns with current land management. The major issue themes that will be addressed in this planning effort include:

• Vegetation management.

• Wildlife and fisheries management.

• Special status species.

• Commercial uses:

a. Energy development (oil and gas leasing, coal leasing, wind development).

b. Livestock grazing.

c. Forest products and areas within community wildfire protection plans.

d. Rights-of-way and land use authorizations.

e. Locatable and saleable minerals.

f. Commercial special recreation permits.

• Recreation management.

• Travel management and access.

• Special management area designations, including areas of critical environmental concern (ACECs).

After public comments are gathered as to what issues the RMPs/EIS should address, they will be placed in one of three categories:

1. Issues to be resolved in the RMPs/EIS;

2. Issues to be resolved through policy or administrative action; or

3. Issues beyond the scope of the RMPs/EIS.

Rationale will be provided in the RMPs/EIS for each issue placed in category two or three. In addition to these major issues, a number of management questions and concerns will be addressed in the RMPs/EIS. The public is encouraged to help identify these questions and concerns during the scoping phase.

The BLM will use an interdisciplinary approach to develop the RMPs/EIS in order to consider the variety of resource issues and concerns identified. Specialists with expertise in the following disciplines will be involved in the planning process, including but not limited to: Rangeland management, minerals and geology, wildland fire and fuels management, outdoor recreation, archaeology, paleontology, wildlife and fisheries, lands and realty, soil, water and air, global climate change, wild horses, environmental justice, sociology and economics.

The following planning criteria have been proposed to guide development of the RMPs/EIS, avoid unnecessary data collection and analyses, and to ensure the RMPs/EIS are tailored to the issues. Other criteria may be identified during the public scoping process. After gathering comments on planning criteria, the BLM will finalize the criteria and provide feedback to the public on the criteria to be used throughout the planning process. Some of the planning criteria that are under consideration include:

• The planning process for the Billings and PPNM RMPs will include a single EIS and culminate with the issuance of two Records of Decision (RODs).

• The RMPs/EIS will be completed in compliance with FLPMA, NEPA, the Endangered Species Act (ESA), and all other applicable laws, regulations and BLM policies.

• The RMPs/EIS will establish new guidance and identify existing guidance upon which the BLM will rely in managing public lands within the Billings Field Office and the PPNM.

• The RMPs/EIS will incorporate by reference the Standards for Rangeland Health and Guidelines for Livestock Grazing Management (August 1997); Areas of Critical Environmental Concern (ACEC) Amendment (August 1998); the Off-Highway Vehicle EIS and Plan Amendment for Montana, North Dakota, and Portions of South Dakota (June 2003); the 1992 Oil & Gas EIS/Amendment of the Powder River, Billings, & South Dakota RMPs; the Montana Final Statewide Oil and Gas EIS and Proposed Amendment of the Powder River and Billings RMP (January 2003); the Montana/Dakotas Statewide Fire/Fuels Management Plan (September 2003); Final Programmatic EIS on Wind Energy Development (June 2005); Best Management Practices for Forestry in Montana; the Montana Streamside Management Zone Law and Rule; and, when finalized, the Supplemental EIS to the Montana Statewide Oil and Gas Amendment; and the Vegetation Treatments Using Herbicides EIS.

• The RMPs/EIS will incorporate, by reference, all prior wilderness study area (WSA) findings that affect public lands in the planning area.

• The planning team will use a collaborative and multi-jurisdictional approach, where applicable, throughout the planning process.

• The planning process will include early consultation meetings with the United States Fish and Wildlife Service (USFWS) during the development of the RMPs/EIS.

• The RMPs/EIS will result in determinations as required by special program and resource specific guidance detailed in Appendix C of the BLM's Planning Handbook (H-1610-1).

• The Billings RMP will incorporate the requirements of the BLM Handbook H-1624-1, Planning for Fluid Minerals.

• The RMPs/EIS will incorporate the requirements of the interagency reference guide entitled Reasonably Foreseeable Development Scenarios and Cumulative Effects Analysis developed by the Rocky Mountain Federal Leadership Forum on NEPA, Oil and Gas, and Air Quality.

• The RMPs/EIS will recognize the State of Montana's responsibility to manage wildlife populations, including uses such as hunting and fishing, within the planning area.

• To the extent possible, goals and objectives in the RMPs/EIS for plants and wildlife (including special status species) will incorporate or respond to goals and objectives from established recovery plans, conservation strategies, strategic plans, etc.

• Decisions in the RMPs/EIS will strive to be compatible with the existing plans and policies of adjacent local, state, tribal, and federal agencies to the extent they are in conformance with legal mandates on management of public lands.

• The scope of analysis will be consistent with the level of analysis in approved plans and in accordance with Bureau-wide standards and program guidance.

• Geospatial data will be automated within a geographic information system (GIS) to facilitate discussions of the affected environment, alternative formulation, analysis of environmental consequences, and display of the results.

• Resource allocations must be reasonable and achievable within available technological and budgetary constraints.

• Best management practices (BMPs) for oil and gas, road drainage, grazing, wind energy, and water quality BMPs for Montana forests, fire rehab, power lines, etc. will be added.

• The planning process will involve Native American Tribal governments and will provide strategies for ensuring the Tribes' needs are considered, analyzed and that the BLM fulfills its trust responsibilities.

• The lifestyles and concerns of area residents will be recognized in the RMPs/EIS.

• The State Historic Preservation Office (SHPO) will be consulted on any potential effect of the RMPs/EIS on cultural resources under provisions of the National Historic Preservation Act of 1966, as amended (16 U.S.C. 470f) and under the National Programmatic Agreement.

Dated: May 8, 2008.
Howard A. Lemm,
Acting State Director.

[FR Doc. E8-10849 Filed 5-14-08; 8:45 am]

BILLING CODE 4310-$$-P